TENNESSEE VALLEY AUTHORITY

Meeting of the Regional Energy Resource Council

AGENCY: Tennessee Valley Authority (TVA).

ACTION: Notice of meeting.

SUMMARY: The TVA Regional Energy Resource Council (RERC) will hold a meeting Tuesday, February 19, 2019, and Wednesday, February 20, 2019, to discuss the draft results and associated documents of its' 2019 Integrated Resource Plan (IRP).

The RERC was established to advise TVA on its energy resource activities and the priority to be placed among competing objectives and values. Notice of this meeting is given under the Federal Advisory Committee Act (FACA).

DATES: The public meeting will be held on Tuesday, February 19, 2019, from 1:00 p.m. to 6:00 p.m., CST, and on Wednesday, February 20, 2019, from 8:30 a.m. to 11:30 a.m., CST.

ADDRESSES: The meeting will be held at the Embassy Suites Hotel, 1200 Conference Center Boulevard, Murfreesboro, Tennessee, 37129, and will be open to the public. Anyone needing special access or accommodations should let the contact below know at least a week in advance.

FOR FURTHER INFORMATION CONTACT: Liz Upchurch, 865-632-8305, efupchurch@tva.gov.

SUPPLEMENTARY INFORMATION: The meeting agenda includes the following:

1. Introductions

2. Overview of the 2019 Integrated Resource Plan and Environmental Impact Statement status

3. Overview of the metrics and scorecard identified for the 2019 IRP

4. Public Comments

5. Council Discussion and Advice

The RERC will hear opinions and views of citizens by providing a public comment session starting at 5:00 p.m., CST, lasting up to one hour, on Tuesday, February 19, 2019. Persons wishing to speak are requested to register at the door between 1:00 p.m. and 5:00 p.m., CST, on Tuesday, February 19, 2019, and will be called on during the public comment period. TVA will set time limits for providing oral comments, once registered. Handout materials should be limited to one printed page. Written comments are also invited and may be mailed to the Regional Energy Resource Council, Tennessee Valley Authority, 400 West Summit Hill Drive, WT-9-D, Knoxville, Tennessee 37902. Due to possible impacts from the partial government shutdown, this meeting notice may be published less than 15 days in advance of the meeting. Please check the TVA website at www.tva.gov/rerc for updates.

Dated: January 25, 2019.
Joseph J. Hoagland,
Vice President, Enterprise Relations and Innovation, Tennessee Valley Authority.

[FR Doc. 2019-00400 Filed 1-30-19; 8:45 am]

BILLING CODE 8120-08-P